INTERNATIONAL TRADE COMMISSION

[USITC SE-08-022]

Government in the Sunshine Act Meeting Notice

Agency Holding the Meeting: United States International Trade Commission.

Time and Date: August 11, 2008 at 11 a.m.

Place: Room 101, 500 E. Street, SW., Washington, DC 20436, Telephone: (202) 205-2000.

Status: Open to the public.

Matters to be Considered: 1. Agenda for future meetings: None.

2. Minutes.

3. Ratification List.

4. Inv. Nos. 701-TA-453 and 731-TA-1136-1137 (Final)(Sodium Nitrite from China and Germany)—briefing and vote. (The Commission is currently scheduled to transmit its determinations and Commissioners' opinions to the Secretary of Commerce on or before August 20, 2008.)

5. Outstanding action jackets:

(1) Document No. GC-08-147: Final disposition of Inv. No. 337-TA-487 (Certain Agricultural Vehicles and Components Thereof).

In accordance with Commission policy, subject matter listed above, not disposed of at the scheduled meeting, may be carried over to the agenda of the following meeting. Earlier announcement of this meetings was not possible.

By order of the Commission.
Issued: August 5, 2008.
William R. Bishop,
Hearings and Meetings Coordinator.

[FR Doc. E8-18326 Filed 8-7-08; 8:45 am]

BILLING CODE 7020-02-P